FEDERAL COMMUNICATIONS COMMISSION

47 CFR Part 54

[WC Docket No. 23-234; FCC 24-63]

Schools and Libraries Cybersecurity Pilot Program

AGENCY: Federal Communications Commission.

ACTION: Final rule; announcement of effective date.

SUMMARY: In this document, the Federal Communications Commission (Commission) announces that the Office of Management and Budget (OMB) has approved, for a period of three years, an information collection associated with the rules for the Schools and Libraries Cybersecurity Pilot Program contained in the Commission's Schools and Libraries Cybersecurity Pilot Program Report and Order, WC Docket No. 23-234; FCC 24-63. This document is consistent with the Schools and Libraries Cybersecurity Pilot Program Report and Order, which stated that the Commission would publish a document in the Federal Register announcing the effective date of the new information collection requirements.

DATES: The amendments to §§ 54.2004, 54.2005, 54.2006 and 54.2008 published at 89 FR 61282, July 30, 2024 are effective September 20, 2024.

FOR FURTHER INFORMATION CONTACT: Kristin Berkland Kristin.Berkland@fcc.gov, in the Telecommunications Access Policy Division, Wireline Competition Bureau, (202) 418-7400 or TTY (202) 418-0484. For additional information concerning the Paperwork Reduction Act information collection requirements contact Nicole Ongele at (202) 418-2991 or via email: Nicole.Ongele@fcc.gov.

SUPPLEMENTARY INFORMATION: The Commission submitted revised information collection requirements for review and approval by OMB, as required by the Paperwork Reduction Act (PRA) of 1995, on August 14, 2024, which were approved by OMB on September 13, 2024. The information collection requirements are contained in the Commission's Schools and Libraries Cybersecurity Pilot Program Report and Order, WC Docket No. 23-234; FCC 24-63 published at 89 FR 61282, July 30, 2024. The OMB Control Number is 3060-1323. If you have any comments on the burden estimates listed in the following, or how the Commission can improve the collections and reduce any burdens caused thereby, please contact Nicole Ongele, Federal Communications Commission, Room 3.310, 45 L Street NE, Washington, DC 20554. Please include the OMB Control Number, 3060-1323, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received OMB approval on September 13, 2024, for the information collection requirements contained in 47 CFR 54.2004, 54.2005, 54.2006 and 54.2008 published at 89 FR 61282, July 30, 2024.

Under 5 CFR part 1320, an agency may not conduct or sponsor a collection of information unless it displays a current, valid OMB Control Number.

No person shall be subject to any penalty for failing to comply with a collection of information subject to the Paperwork Reduction Act that does not display a current, valid OMB Control Number.

The foregoing notification is required by the Paperwork Reduction Act of 1995, Public Law 104-13, October 1, 1995, and 44 U.S.C. 3507.

The total annual reporting burdens and costs for the respondents are as follows:

OMB Control Number: 3060-1323.

OMB Approval Date: September 13, 2024.

OMB Expiration Date: September 30, 2027.

Title: Schools and Libraries Cybersecurity Pilot Program.

Form Number: FCC Forms 470, 471, 472, 474—Cybersecurity, 484 and 488—Cybersecurity.

Type of Review: New information collection.

Respondents: State, local or tribal government institutions, and other not-for-profit institutions.

Number of Respondents and Responses: 23,000 respondents; 201,100 responses.

Estimated Time per Response: 4 hours for FCC Form 470—Cybersecurity, 5 hours for FCC Form 471—Cybersecurity, 1.75 hours for FCC Forms 472/474—Cybersecurity, 15 hours for FCC Form 484, and 1 hour for FCC Form 488—Cybersecurity.

Frequency of Response: On occasion and annual reporting requirements, and recordkeeping requirements.

Obligation to Respond: Required to obtain or retain benefits. Statutory authority for this information collection is contained in sections 1-4, 201-202, 254, 303(r), and 403 of the Communications Act, 47 U.S.C. 151-154, 201-202, 254, 303(r), and 403.

Total Annual Burden: 743,900 hours.

Total Annual Cost: No cost.

Needs and Uses: The information collected is designed to obtain information from applicants and service providers that will be used by the Commission and/or USAC to evaluate the applications and select participants to receive funding under the Cybersecurity Pilot Program, make funding determinations and disburse funding in compliance with applicable federal laws for payments made through the Pilot program.

The Commission will begin accepting applications to participate in the Cybersecurity Pilot Program after publication of its Report and Order and notice of OMB approval of the Cybersecurity Pilot Program information collection in the Federal Register.

On June 11, 2024, the Commission adopted the Schools and Libraries Cybersecurity Pilot Program Report and Order in WC Docket No. 23-234, 89 FR 61282, July 30, 2024. The Commission adopted a three-year pilot program within the Universal Service Fund to provide up to $200 million available to support cybersecurity and advanced firewall services for eligible schools and libraries. Accordingly, the Commission adopted and added subpart T to part 54 of its rules.

Federal Communications Commission.
Marlene Dortch,
Secretary, Office of the Secretary.

[FR Doc. 2024-21466 Filed 9-19-24; 8:45 am]

BILLING CODE 6712-01-P